SECURITIES AND EXCHANGE COMMISSION

[Release No. 34-99279; File No. SR-NYSEARCA-2023-37]

Self-Regulatory Organizations; NYSE Arca, Inc.; Notice of Withdrawal of a Proposed Rule Change To List and Trade Shares of the COtwo Advisors Physical European Carbon Allowance Trust Under NYSE Arca Rule 8.201-E

January 5, 2024.

On May 23, 2023, NYSE Arca, Inc. (“NYSE Arca” or “Exchange”) filed with the Securities and Exchange Commission (“Commission”), pursuant to Section 19(b)(1) of the Securities Exchange Act of 1934 (“Act”) ¹ and Rule 19b-4 thereunder,² a proposed rule change to list and trade shares of the COtwo Advisors Physical European Carbon Allowance Trust under NYSE Arca Rule 8.201-E (Commodity-Based Trust Shares). The proposed rule change was published for comment in the Federal Register on June 12, 2023.³

¹ 15 U.S.C. 78s(b)(1).

² 17 CFR 240.19b-4.

³ See Securities Exchange Act Release No. 97653 (June 6, 2023), 88 FR 38110.

On July 25, 2023, pursuant to Section 19(b)(2) of the Act,⁴ the Commission designated a longer period within which to approve the proposed rule change, disapprove the proposed rule change, or institute proceedings to determine whether to disapprove the proposed rule change.⁵ On September 6, 2023, the Commission instituted proceedings pursuant to Section 19(b)(2)(B) of the Act ⁶ to determine whether to approve or disapprove the proposed rule change.⁷ On September 29, 2023, the Exchange submitted Amendment No. 1 to the proposed rule change, and on October 20, 2023, the Exchange withdrew Amendment No. 1. On November 27, the Commission designated a longer period for Commission action on the proposed rule change.⁸ The Commission has not received any comment letters on the proposal. On December 26, 2023, the Exchange withdrew the proposed rule change (SR-NYSEARCA-2023-37).

⁴ 15 U.S.C. 78s(b)(2).

⁵ See Securities Exchange Act Release No. 97972, 88 FR 49508 (July 31, 2023).

⁶ 15 U.S.C. 78s(b)(2)(B).

⁷ See Securities Exchange Act Release No. 98302, 88 FR 62608 (September 12, 2023).

⁸ See Securities Exchange Act Release No. 99019, 88 FR 84007 (December 1, 2023).

For the Commission, by the Division of Trading and Markets, pursuant to delegated authority.⁹
⁹ 17 CFR 200.30-3(a)(12).
Christina Z. Milnor,
Assistant Secretary.

[FR Doc. 2024-00384 Filed 1-10-24; 8:45 am]

BILLING CODE 8011-01-P